DEPARTMENT OF HOUSING AND URBAN DEVELOPMENT

[Docket No. FR-4950-N-1A]

Notice of HUD's Fiscal Year (FY) 2005 Notice of Funding Availability, Policy Requirements and General Section to SuperNOFA for HUD's Discretionary Grant Programs; Notice of Additional Guidance to Applicants

AGENCY: Office of the Secretary, HUD.

ACTION: Super notice of funding availability (SuperNOFA) for HUD Discretionary Grant Programs; additional guidance to applicants.

SUMMARY: On March 21, 2005, HUD published its Fiscal Year (FY) 2005, Notice of Funding Availability (NOFA), Policy Requirements and General Section to the SuperNOFA for HUD's Discretionary Grant Programs. This guidance concerns the program NOFAs in the SuperNOFA that require electronic application submission via Grants.gov, but does not affect the application packages on Grants.gov.

This notice also provides guidance to applicants experiencing difficulty using Form HUD 96010, Logic Model in the form fillable, savable version on Grants.gov, and voluntary SF 424 Supplement, Survey on Ensuring Equal Opportunity for Applicants.

DATES: The application submission dates for all other program sections of the SuperNOFA remain as published in the Federal Register on March 21, 2005, with the exception of the Supportive Housing for Persons with Disabilities Program as contained in FR-4950-C-20 published in today's Federal Register.

FOR FURTHER INFORMATION CONTACT: For further information on this Notice please contact Dorthera (Rita) Yorkshire or Eric Gauff in HUD's Office of Departmental Grants Management and Oversight at (202) 708-0667 (this is not a toll-free number). Hearing- or speech-impaired individuals may access this number through TTY by calling the toll-free Federal Information Relay Service at (800) 877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The FY2005 SuperNOFA announced the availability of approximately $2.26 billion in HUD assistance. This notice published in today's Federal Register provides further guidance to applicants on completing certain forms as part of their application submission via Grants.gov.

Applicant Guidance

HUD is providing the following clarifications and guidance on how to submit the HUD 96010, Logic Model and SF 424 Supplement, Survey on Equal Opportunity for Applicants.

Applicants that experience difficulty with the form fillable, savable version of the form HUD 96010, Logic Model, may follow any one of the following options:

1. Complete the HUD-96010 Logic Model, Word version form available on HUD's Web site at http://www.hud.gov/offices/adm/grants/nofa05/snofaforms.cfm, save it following the directions in the General Section for Word format files and then attach the completed form to the Grants.gov application submission using the attachment form in the application package; or

2. Applicants that do not use Microsoft Word software may create their own equivalent form and then, using form HUD 96011, Facsimile Transmittal, and following the instructions in the General Section of the SuperNOFA published on March 21, 2005, fax the completed Logic Model information to the HUD number provided in the General Section; or

3. Applicants may continue to use the form fillable, savable form found in the application package.

Applicants are reminded that the Logic Model completed with their application is to be an Executive Summary of the activities, outputs, and outcomes in the application, not a long narrative or a repetition of the narratives provided elsewhere in the application. The training on the Logic Model emphasized the need to provide the key elements of the proposed program in the Logic Model form. The Logic Model training may be accessed from HUD's Web site at http://www.hud.gov/webcasts/archives/supernofa05.cfm.

Applicants are also advised that a Department of Education form was incorrectly included as part of the application packages on Grants.gov instead of the SF 424 Supplement, Ensuring Equal Opportunity for Applicants form listed in HUD program NOFAs. Applicants that wish to complete the SF 424 Supplement form should obtain a copy of the correct form from HUD's Web site at http://www.hud.gov/offices/adm/grants/nofa05/snofaforms.cfm. Applicants may use the Word format version of the form and submit as an attached file to the application, in accordance with the instructions in the General Section for saving Word format documents. In the alternative, applicants may use the PDF version of this form and either scan it and submit it as an attached file with the application or submit it by facsimile using the form HUD 96011 Facsimile Transmittal as described in the General Section instructions.

To assist applicants in preparing and submitting their application packages via Grants.gov, HUD encourages applicants to utilize the Frequently Asked Questions pages on the Grants.gov Web site and HUD's Web site. Frequently asked questions on the Grants.gov Web site can be found at http://grants.gov/ForApplicants#. Look for Tips and Tools. Frequently asked questions can be found on the HUD Web site at: http://www.hud.gov/offices/adm/grants/egrants/grantsgovfaqs.pdf

Dated: May 5, 2005.
Darlene Williams,
Deputy Assistant, Secretary for Administration.

[FR Doc. E5-2310 Filed 5-10-05; 8:45 am]

BILLING CODE 4210-27-P